DEPARTMENT OF EDUCATION

[CFDA: 84.133N-1 and 84.133A-15]

Funding Priorities and Selection Criterion; Disability and Rehabilitation Research Projects and Spinal Cord Injury Model Systems Centers and Multi-Site Collaborative Research Projects

AGENCY: Office of Special Education and Rehabilitative Services, Department of Education.

ACTION: Notice of proposed priorities and selection criterion.

SUMMARY: The Assistant Secretary for Special Education and Rehabilitative Services proposes certain funding priorities and a selection criterion for the Disability and Rehabilitation Research Projects and Centers Program administered by the National Institute on Disability and Rehabilitation Research (NIDRR). Specifically, this notice proposes (1) a priority under the Special Projects and Demonstrations for Spinal Cord Injuries Program for SCIMS Centers (proposed priority 1), and (2) a priority and selection criterion for Disability and Rehabilitation Research Projects (DRRPs) that will serve as the SCIMS Multi-Site Collaborative Research Projects (proposed priority 2). The Assistant Secretary may use one or more of these priorities and selection criterion for competitions in fiscal year (FY) 2011 and later years. We take this action to focus research attention on areas of national need.

DATES: We must receive your comments on or before April 21, 2011.

ADDRESSES: Address all comments about this notice to Lynn Medley, U.S. Department of Education, 400 Maryland Avenue, SW., room 5140, Potomac Center Plaza (PCP), Washington, DC 20202-2700.

If you prefer to send your comments by e-mail, use the following address: Lynn.Medley@ed.gov. You must include “Proposed Priorities for SCIMS centers and SCIMS Multi-Site Collaborative Research Projects” in the subject line of your electronic message.

FOR FURTHER INFORMATION CONTACT: Lynn Medley. Telephone: (202) 245-7338 or by e-mail: Lynn.Medley@ed.gov.

If you use a telecommunications device for the deaf (TDD), call the Federal Relay Service (FRS), toll free, at 1-800-877-8339.

SUPPLEMENTARY INFORMATION:

This notice of proposed priorities and selection criterion is in concert with NIDRR's currently approved Long-Range Plan (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes two priorities and a selection criterion that NIDRR intends to use for competitions in FY 2011 and possibly later years. However, nothing precludes NIDRR from publishing additional priorities or selection criteria, if needed. Furthermore, NIDRR is under no obligation to make an award for either of these priorities. The decision to make awards will be based on the quality of applications received and available funding.

Invitation to Comment: We invite you to submit comments regarding this notice. To ensure that your comments have maximum effect in developing the notice of final priorities and selection criterion, we urge you to identify clearly the specific priority or selection criterion that each comment addresses.

We invite you to assist us in complying with the specific requirements of Executive Order 12866 and its overall requirement of reducing regulatory burden that might result from these proposed priorities and selection criterion. Please let us know of any further ways we could reduce potential costs or increase potential benefits while preserving the effective and efficient administration of the program.

During and after the comment period, you may inspect all public comments about this notice in room 5133, 550 12th Street, SW., PCP, Washington, DC, between the hours of 8:30 a.m. and 4 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended (Rehabilitation Act).

Under the Disability and Rehabilitation Research Projects and Centers umbrella program, the Department funds projects through a number of funding mechanisms, including the Special Projects and Demonstrations for Spinal Cord Injuries (SCI) Program and Disability and Rehabilitation Research Projects (DRRP). The SCIMS centers are funded through the Special Projects and Demonstrations for SCI program and the SCIMS Multi-Site Collaborative Research Projects are funded as DRRPs.

Special Projects and Demonstrations for Spinal Cord Injuries Program

The SCIMS centers program is funded through the Special Projects and Demonstrations for Spinal Cord Injuries Program. This program provides assistance for projects that provide comprehensive rehabilitation services to individuals with spinal cord injuries, and conducts spinal cord research, as specified in 34 CFR 359.10 and 359.11.

DRRP Program

DRRPs are designed to improve the effectiveness of services authorized under the Rehabilitation Act by developing methods, procedures, and rehabilitation technologies that advance a wide range of independent living and employment outcomes for individuals with disabilities, especially individuals with the most severe disabilities. DRRPs carry out one or more of the following types of activities, as specified and defined in 34 CFR 350.13 through 350.19: research, training, demonstration, development, dissemination, utilization, and technical assistance. An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

Program Authority: 29 U.S.C. 760 and 764(a) and 764(b)(4).

Applicable Program Regulations: 34 CFR part 350 and 359.

Proposed Priorities: This notice contains two proposed priorities.

Background

The SCIMS program is designed to study the course of recovery and outcomes following the delivery of a coordinated system of care for individuals with SCI. For purposes of this program, SCI is defined as a clinically discernible degree of neurologic impairment of the spinal cord following a traumatic event. The Department currently supports 14 SCIMS centers through this program. These centers provide comprehensive rehabilitation services to individuals with SCI and conduct SCI research, including clinical research and community-based research.

There is a continued need for research to assist individuals who acquire and live with SCI. While SCI remains a low-incidence condition (estimates are that there are 12,000 newly acquired SCI in the U.S. each year), the number of people surviving SCI continues to grow, largely fueled by improved emergency and acute care (http://www.ninds.nih.gov/disorders/sci/detail_sci.htm).

SCI are complex and likely to be long-term. Significant costs are associated with SCI because of recurring medical and rehabilitation needs, including home and vehicle modifications and personal assistants (Priebe et al., 2007). Increased survival rates of individuals with SCI have raised new research questions. For instance, research is needed to develop rehabilitation interventions that address functional challenges experienced by individuals with SCI who are aging (Field and Jette, 2007; Winkler, 2008). For example, “overuse syndrome” is a consequence of living with a SCI and manifests itself in degeneration of joints and chronic pain in the shoulders and neck and is associated with using the arms to propel a wheelchair or transfer from one place to another. Chronic pain can be a debilitating secondary condition to SCI, and effective, sustainable treatments remain elusive (Hauser and Gruen, 2009; Hosalkar, et al., 2009).

Since 1973, the SCIMS centers have collected and contributed information on common data elements for a centralized SCI database, referred to as the SCIMS database, which is maintained through a NIDRR-funded grant for a National Data and Statistical Center.

As of October 2010, the SCIMS database included initial information on 27,553 individuals, with follow-up information on 22,605 individuals, including 1,034 people who have provided information for more than 30 years. Further information about the SCIMS database, including inclusion criteria, can be found at the following Web site: https://www.nscisc.uab.edu.

The SCIMS program is the largest network of research centers devoted to SCI in the world. The low SCI incidence rate makes collaboration across SCIMS centers critical in order to involve investigators with the necessary expertise and to combine the number of subjects who are available for rigorous testing of interventions (Boulenguez & Vinay, 2009). The SCIMS program has evolved into a multi-site platform that can serve as a resource for testing promising interventions. NIDRR funds the SCIMS centers under the Special Projects and Demonstrations for SCI program, as well as separate DRRPs that serve as SCIMS collaborative research projects. These efforts comprise the SCIMS program. Through the priorities proposed in this notice, the Department seeks to fund research and other work carried out under this program.

In accordance with section 204(b)(4) of the Rehabilitation Act and 34 CFR part 359, Proposed Priority 1 would establish SCIMS centers that will build upon the work of the currently-funded SCIMS centers to provide rehabilitation services to individuals with SCI and conduct SCI research.

Proposed Priority 2, authorized under section 204(a) of the Rehabilitation Act and 34 CFR part 350, would provide for DRRPs to conduct multi-site research that contributes to evidence-based rehabilitation interventions and clinical practice guidelines that improve the lives of individuals with SCI. These projects are designed to serve the overall purpose of the DRRP program.

To be eligible under Priority 2, an applicant must have received a grant under Priority 1. The Department intends to announce the competition for Priority 2 awards after selecting grantees from the Priority 1 competition. Only successful applicants from the Priority 1 competition will be eligible to apply for awards under the Priority 2 competition.

References

Alexander, M.S., Anderson, K.D., Beiring-Sorensen, F., Blight, A.R., Brannon. R., Bryce, T.N. Whiteneck, G. 2009). Outcome measures in spinal cord injury: recent assessments and recommendations for future directions. Spinal Cord, 47: 582-591.

Boulenguez, P. and Vinay, L. (2009). Strategies to restore motor functions after spinal cord injury. Current Opinion in Neurobiology, 19(6):587-600.

Field, M.J. and Jette, A.M. (2007). Secondary Conditions and Aging with Disability in M.J. Field & A.M. Jette (Eds). The Future of Disability in American (pp.136-161). Washington, DC: National Academies Press.

Hauser, R.A., Greun, K.A. (2009). The use of prolotherapy in the treatment of chronic overuse shoulder and neck pain, neuorgenic pain, and hip degeneration in an incomplete C-4-C-5 spinal cord injury patient. Journal of Prolotherapy, 3:166-171.

Hosalkera, H. Pandya, N.K., Hsu, J., Keenan, M.A. (2009). What's New in Orthopaedic Rehabilitation—Spinal Cord Injury. Journal of Bone & Joint Surgery, 91: 2303-2305.

Priebe, M.M., Chiodo, A.E., Scelza, W.M., Kirschblum, S.C., Wuermser, L.A., Ho, C.H. (2007. Spinal Cord Injury Medicine. 6. Economic and societal issues in spinal cord injury. Archives of Physical Medicine and Rehabilitation, 88: S84-S88.

Quarterly Report for the Spinal Cord Injury Model Systems (March 2010). National Spinal Cord Injury Statistical Center. University of Alabama-Birmingham. Retrieved from: https://www.nscisc.uab.edu.

Winkler, T. (2008) Spinal Cord and Aging. Retrieved from eMedicine Physical Medicine and Rehabilitation-Spinal Cord Injury: http://emedicine.medscape.com/article/322713-overview.

Proposed Priority 1—Spinal Cord Injury Model Systems Centers

The Assistant Secretary for Special Education and Rehabilitative Services proposes a priority for the funding of Spinal Cord Injury Model Systems (SCIMS) centers of care (SCIMS Centers). The SCIMS Centers must provide comprehensive, multidisciplinary services to individuals with spinal cord injury (SCI) as a basis for conducting research that contributes to evidence-based rehabilitation interventions and clinical and practice guidelines. The SCIMS program is designed to generate new knowledge that can be used to improve outcomes of individuals with SCI in one or more domains identified in NIDRR's currently approved Long Range Plan, published in the Federal Register on February 15, 2006, 71 FR 8165: health and function, participation and community living, technology, and employment. Each SCIMS Center must contribute to this outcome by—

(a) Providing a multidisciplinary system of rehabilitation care specifically designed to meet the needs of individuals with SCI. The system must encompass a continuum of care, including emergency medical services, acute care services, acute medical rehabilitation services, and post-acute services;

(b) Continuing the assessment of long-term outcomes of individuals with SCI by enrolling at least 30 subjects per year into the SCIMS database, following established protocols for the collection of enrollment and follow-up data on subjects;

(c) Proposing and conducting at least one, but no more than two, site-specific research projects to test innovative approaches to treating SCI and to assessing outcomes in one or more domains identified in the Plan: health and function, participation and community living, technology, and employment;

(d) Participating as research collaborators in at least one module project. Module projects are research collaborations with one or more other SCIMS Centers—on topics of mutual interest and expertise. These module projects are carried out as part of the SCIMS Centers' activities. They are not part of the SCIMS Multi-Site Collaborative Projects, which are funded under a separate priority.

Note: The SCIMS Centers' Project Directors will work together to determine the substance and the methods that will be used to conduct these module projects. NIDRR staff will facilitate this post-award discussion and negotiation.

Each applicant under this priority must—

(1) Demonstrate, in its application, its capacity to successfully engage in multi-site collaborative research. This capacity includes access to research participants, the ability to maintain data quality, and the ability to adhere to research protocols; and

(2) Propose to spend at least 15 percent of its annual budget on participating in a module project, as described in paragraph (d) of this priority;

(e) Addressing the needs of persons with disabilities including individuals from traditionally underserved populations;

(f) Coordinating with the NIDRR-funded Model Systems Knowledge Translation Center (MSKTC) to provide scientific results and information for dissemination to clinical and consumer audiences; and

(g) Ensuring participation of persons with disabilities in conducting SCIMS research.

Proposed Priority 2—Spinal Cord Injury Model Systems (SCIMS) Multi-Site Collaborative Research Projects

The Assistant Secretary for Special Education and Rehabilitative Services proposes a priority for the funding of Disability and Rehabilitation Research Projects (DRRPs) to serve as Spinal Cord Injury Model Systems (SCIMS) multi-site collaborative research projects. To be eligible under this priority, an applicant must have received a grant under the SCIMS Centers priority (Proposed Priority 1 in this notice). Following completion of a competition using the SCIMS Centers priority, the Department will invite successful applicants under that competition to apply for funding under this SCIMS Multi-Site Collaborative Research Projects priority.

Each SCIMS multi-site collaborative research project must be designed to contribute to evidence-based rehabilitation interventions and clinical practice guidelines that improve the lives of individuals with spinal cord injury (SCI) through research, including the testing of approaches to treating SCI or the assessment of the outcomes of individuals with SCI. Each SCIMS multi-site collaborative research project must contribute to this outcome by—

(a) Collaborating with three or more of the NIDRR-funded SCIMS centers (for a minimum of four SCIMS sites). Applicants may also propose to include as part of their multi-site collaborative research project other SCI research sites that are not participating in a NIDRR-funded program;

(b) Conducting multi-site research on questions of significance to SCI rehabilitation, using clearly identified research designs. The research must focus on outcomes in one or more domains identified in NIDRR's currently approved Long Range Plan, published in the Federal Register on February 15, 2006, 71 FR 8165: health and function, participation and community living, technology, and employment;

(c) Demonstrating the capacity to carry out multi-site collaborative research projects, including administrative capabilities, experience with management of multi-site research protocols, and demonstrated ability to maintain standards for quality and confidentiality of data gathered from multiple sites;

(d) Addressing the needs of people with disabilities, including individuals from traditionally underserved populations;

(e) Coordinating with the NIDRR-funded Model Systems Knowledge Translation Center (MSKTC) to provide scientific results and information for dissemination to clinical and consumer audiences; and

(f) Ensuring participation of individuals with disabilities in conducting SCIMS research.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Selection Criterion

Background: The Department is interested in ensuring that grantees use rigorous methods to carry out multi-site research conducted under Proposed Priority Two. The selection criteria that are available for use in DRRP competitions (34 CFR 350.53 and 350.54) are not sufficiently detailed to allow evaluation of large-scale multi-site collaborative research projects. Therefore, we propose an additional criterion to address methods for carrying out multi-site research collaboration and would use this selection criterion when evaluating applications under the SCIMS Multi-Site Collaborative Research Projects priority (Proposed Priority Two). This proposed criterion will be used to evaluate applicants' capacity to manage and carry out a number of complex tasks that are involved in the successful conduct of multi-site collaborative research.

Proposed Selection Criteria

In accordance with the provisions of 34 CFR 350.53 and 350.54 and in addition to the selection criteria specified in those sections, the Secretary proposes to consider the following factor in evaluating applications submitted under the SCIMS Multi-Site Collaborative Research Projects priority:

The extent to which the applicant clearly documents its capacity to carry out a multi-site research project, including demonstrated administrative capabilities, experience with managing and following multi-site research protocols, and ability to maintain and meet standards for quality and confidentiality of data gathered from multiple sites.

Final Priorities and Selection Criteria: We will announce the final priorities and selection criteria in a notice in the Federal Register. We will determine the final priorities and selection criteria after considering responses to this notice and other information available to the Department. This notice does not preclude us from proposing additional priorities, requirements, definitions, or selection criteria, subject to meeting applicable rulemaking requirements.

Note: This notice does not solicit applications. In any year in which we choose to use any of these priorities, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priorities and selection criteria justify the costs.

Discussion of Costs and Benefits

The benefits of the Disability and Rehabilitation Research Projects and Centers Programs have been well established over the years in that similar projects have been completed successfully. The priorities proposed in this notice will generate new knowledge through research and development. Another benefit of this proposed regulatory action is that the establishment of new DRRPs will improve the lives of individuals with disabilities. The new DRRPs will generate, disseminate, and promote the use of new information that will improve the options for individuals with disabilities to perform regular activities in the community.

Intergovernmental Review: This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: www.gpoaccess.gov/nara/index.html.

Catalog of Federal Domestic Assistance (CFDA) Numbers: 84.133N-1 and 84.133A-15.

Dated: March 17, 2011.
Alexa Posny,
Assistant Secretary for Special Education and Rehabilitative Services.

[FR Doc. 2011-6711 Filed 3-21-11; 8:45 am]

BILLING CODE 4000-01-P